DEPARTMENT OF COMMERCE

International Trade Administration

[A-570-900]

Diamond Sawblades and Parts Thereof From the People's Republic of China: Final Results of Antidumping Duty Administrative Review; 2016-2017

AGENCY: Enforcement and Compliance, International Trade Administration, Department of Commerce.

SUMMARY: The Department of Commerce (Commerce) finds that certain companies covered by this administrative review made sales of diamond sawblades and parts thereof (diamond sawblades) from the People's Republic of China (China) at less than normal value during the period of review (POR) November 1, 2016, through October 31, 2017.

DATES: Applicable December 14, 2018.

FOR FURTHER INFORMATION CONTACT: Yang Jin Chun or Joshua Poole, AD/CVD Operations, Office I, Enforcement and Compliance, International Trade Administration, U.S. Department of Commerce, 1401 Constitution Avenue NW, Washington, DC 20230; telephone: (202) 482-5760 and (202) 482-1293, respectively.

SUPPLEMENTARY INFORMATION:

Background

On August 10, 2018, Commerce published the preliminary results of the administrative review of the antidumping duty order on diamond sawblades from China covering the period of review (POR) November 1, 2016, through October 31, 2017.¹ We received case and rebuttal briefs with respect to the Preliminary Results. The deadline for the final results of this review is December 10, 2018.² We conducted this administrative review in accordance with section 751 of the Tariff Act of 1930, as amended (the Act).

¹ See Diamond Sawblades and Parts Thereof from the People's Republic of China: Preliminary Results of Antidumping Duty Administrative Review; 2016-2017, 83 FR 39673 (August 10, 2018) (Preliminary Results), and accompanying Preliminary Decision Memorandum.

² See Notice of Clarification: Application of “Next Business Day” Rule for Administrative Determination Deadlines Pursuant to the Tariff Act of 1930, as Amended, 70 FR 24533 (May 10, 2005). The statutory deadline for the final results of this review is Saturday, December 8, 2018.

Scope of the Order

The merchandise subject to the order is diamond sawblades. The diamond sawblades subject to the order are currently classifiable under subheadings 8202 to 8206 of the Harmonized Tariff Schedule of the United States (HTSUS) and may also enter under subheading 6804.21.00. The HTSUS subheadings are provided for convenience and customs purposes. A full description of the scope of the order is contained in the Issues and Decision Memorandum.³ The written description is dispositive.

³ See the Memorandum, “Issues and Decision Memorandum for the Administrative Review of the Antidumping Duty Order on Diamond Sawblades and Parts Thereof from the People's Republic of China,” (Issues and Decision Memorandum) dated concurrently with and hereby adopted by this notice at 2-3.

Analysis of Comments Received

All issues raised in the case and rebuttal briefs by parties to this administrative review are addressed in the Issues and Decision Memorandum. A list of the issues raised is attached to this notice as an appendix. The Issues and Decision Memorandum is a public document and is on file electronically via Enforcement and Compliance's Antidumping and Countervailing Duty Centralized Electronic Service System (ACCESS). ACCESS is available to registered users at http://access.trade.gov and to all parties in the Central Records Unit, room B8024 of the main Department of Commerce building. In addition, a complete version of the Issues and Decision Memorandum can be accessed directly on the Enforcement and Compliance website at http://enforcement.trade.gov/frn/index.html.

Final Determination of No Shipments

We preliminarily found that Danyang Hantronic Import & Export Co., Ltd., Danyang Tsunda Diamond Tools Co., Ltd., Jiangsu Huachang Tools Manufacturing Co., Ltd., Shanghai Starcraft Tools Company Limited, Weihai Xiangguang Mechanical Industrial Co., Ltd., and Wuhan Wanbang Laser Diamond Tools Co., Ltd., which have been eligible for separate rates in previous segments of the proceeding and are subject to this review, did not have any reviewable entries of subject merchandise during the POR.⁴ After the Preliminary Results, we received no comments or additional information with respect to these six companies. Therefore, for the final results, we continue to find that these six companies did not have any reviewable entries of subject merchandise during the POR. Consistent with our practice, we will issue appropriate instructions to U.S. Customs and Border Protection (CBP) based on our final results.

⁴ See Preliminary Results, 83 FR at 39673, n.2, and accompanying Preliminary Decision Memorandum at 3.

Separate Rates

Commerce preliminarily determined that 14 respondents are eligible to receive separate rates in this review.⁵ We made no changes to these determinations for the final results.

⁵ Id. at 39673, n.6, and accompanying Preliminary Decision Memorandum at 4-8.

Changes Since the Preliminary Results

We made no revisions to the Preliminary Results.

Final Results of the Review

As a result of this administrative review, we determine that the following weighted-average dumping margins exist for the period November 1, 2016, through October 31, 2017:

Company | Margin (percent)
Chengdu Huifeng New Material Technology Co., Ltd ⁶ | 82.05
Danyang Weiwang Tools Manufacturing Co., Ltd | 82.05
Guilin Tebon Superhard Material Co., Ltd | 82.05
Hangzhou Deer King Industrial and Trading Co., Ltd | 82.05
Henan Huanghe Whirlwind International Co., Ltd | 82.05
Huzhou Gu's Import & Export Co., Ltd | 82.05
Jiangsu Fengtai Single Entity ⁷ | 82.05
Jiangsu Inter-China Group Corporation | 82.05
Quanzhou Zhongzhi Diamond Tool Co., Ltd | 82.05
Rizhao Hein Saw Co., Ltd | 82.05
Saint-Gobain Abrasives (Shanghai) Co., Ltd | 82.05
Shanghai Jingquan Industrial Trade Co., Ltd | 82.05
Xiamen ZL Diamond Technology Co., Ltd | 82.05
Zhejiang Wanli Tools Group Co., Ltd | 82.05

Assessment

Pursuant to section 751(a)(2)(A) of the Act and 19 CFR 351.212(b), Commerce shall determine, and CBP shall assess, antidumping duties on all appropriate entries covered by this review.⁸ For all respondents eligible for a separate rate, we will instruct CBP to apply an antidumping duty assessment rate of 82.05 percent to all entries of subject merchandise that entered the United States during the POR.⁹ For all other companies, we will instruct CBP to apply the antidumping duty assessment rate of the China-wide entity, 82.05 percent, to all entries of subject merchandise exported by these companies.¹⁰ For the six companies that we determined had no reviewable entries of the subject merchandise in this review period, any suspended entries that entered under that exporter's case number (i.e., at that exporter's rate) will be liquidated at the China-wide rate. We intend to issue assessment instructions to CBP 15 days after the date of publication of the final results of review.

⁶ See Diamond Sawblades and Parts Thereof from the People's Republic of China: Final Results of Antidumping Duty Changed Circumstances Review, 82 FR 60177 (December 19, 2017). In this changed circumstances review, Commerce determined that Chengdu Huifeng New Material Technology Co., Ltd. is the successor-in-interest to Chengdu Huifeng Diamond Tools Co., Ltd.

⁷ Jiangsu Fengtai Diamond Tool Manufacture Co., Ltd., Jiangsu Fengtai Tools Co., Ltd., and Jiangsu Fengtai Sawing Industry Co., Ltd., comprise the Jiangsu Fengtai Single Entity. See Preliminary Results and accompanying Preliminary Decision Memorandum at 6, n.32.

⁸ See 19 CFR 351.212(b)(1).

⁹ See Issues and Decision Memorandum at Comment 1.

¹⁰ See Initiation of Antidumping and Countervailing Duty Administrative Reviews, 83 FR 1329 (January 11, 2018) (“All firms listed below that wish to qualify for separate rate status in the administrative reviews involving NME countries must complete, as appropriate, either a separate rate application or certification, as described below.”).

Cash Deposit Requirements

The following cash deposit requirements will be effective upon publication of the final results of this administrative review for all shipments of the subject merchandise from China entered, or withdrawn from warehouse, for consumption on or after the publication date as provided by section 751(a)(2)(C) of the Act: (1) For subject merchandise exported by the companies listed above that have separate rates, the cash deposit rate will be the rate established in these final results of review for each exporter as listed above; (2) for previously investigated or reviewed Chinese and non-Chinese exporters not listed above that received a separate rate in a prior segment of this proceeding, the cash deposit rate will continue to be the exporter-specific rate; (3) for all Chinese exporters of subject merchandise that have not been found to be entitled to a separate rate, the cash deposit rate will be that for the China-wide entity; (4) for all non-Chinese exporters of subject merchandise which have not received their own rate, the cash deposit rate will be the rate applicable to the Chinese exporter that supplied that non-Chinese exporter. These deposit requirements shall remain in effect until further notice.

Notification to Importers

This notice serves as a final reminder to importers of their responsibility under 19 CFR 351.402(f)(2) to file a certificate regarding the reimbursement of antidumping duties prior to liquidation of the relevant entries during this POR. Failure to comply with this requirement could result in Commerce's presumption that reimbursement of the antidumping duties occurred and the subsequent assessment of doubled antidumping duties.

Administrative Protective Orders

This notice also serves as the only reminder to parties subject to administrative protective order (APO) of their responsibility concerning the return or destruction of proprietary information disclosed under APO in accordance with 19 CFR 351.305(a)(3). Timely written notification of the return or destruction of APO materials or conversion to judicial protective order is hereby requested. Failure to comply with the regulations and terms of an APO is a violation subject to sanction.

These final results of review are issued and published in accordance with sections 751(a)(1) and 777(i) of the Act.

Dated: December 10, 2018.
Gary Taverman,
Deputy Assistant Secretary for Antidumping and Countervailing Duty Operations, performing the non-exclusive functions and duties of the Assistant Secretary for Enforcement and Compliance.

Appendix

List of Topics Discussed in the Final Decision Memorandum

I. Summary

II. Background

III. Scope of the Order

IV. Discussion of the Issues

Comment 1: Rate for Non-Selected Separate Rate Respondents

Comment 2: Respondent Identification in Liquidation Instructions

V. Recommendation

[FR Doc. 2018-27123 Filed 12-13-18; 8:45 am]

BILLING CODE 3510-DS-P